DEPARTMENT OF TRANSPORTATION

Federal Aviation Administration

14 CFR Part 71

[Docket No. FAA-2016-8503; Airspace Docket No. 16-ASW-11]

Amendment of Class D and E Airspace for the Following Texas Towns; Houston Sugar Land, TX; Alice, TX; Bay City, TX; Brenham, TX; Burnet, TX; Falfurrias, TX; Graford, TX; and Hamilton, TX

AGENCY: Federal Aviation Administration (FAA), DOT.

ACTION: Final rule.

SUMMARY: This action modifies Class D and Class E surface area airspace at Sugar Land Regional Airport, Houston Sugar Land, TX; and Class E airspace extending upward from 700 feet above the surface at Kingsville Kleberg County Airport, Alice, TX; Bay City Municipal Airport, Bay City, TX; Brenham Municipal Airport, Brenham, TX; Burnet Municipal Airport-Kate Craddock Field, Burnet, TX; Brooks County Airport, Falfurrias, TX; Possum Kingdom Airport, Graford, TX; and Hamilton Municipal Airport, Hamilton, TX. Decommissioning of non-directional radio beacons (NDBs), cancellation of NDB approaches, and implementation of area navigation (RNAV) procedures have made this action necessary for the safety and management of Instrument Flight Rules (IFR) operations at these airports. Additionally, the geographic coordinates at Bay City Municipal Airport, Brenham Municipal Airport, and Brooks County Airport, as well as the name of Sugar Land Regional Airport (formerly Sugar Land Municipal/Hull Field) are being adjusted to coincide with the FAA's aeronautical database. This action does not remove Class E airspace at Horseshoe Bay Resort Airport, Austin, TX, as was proposed.

DATES: Effective 0901 UTC, April 27, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of FAA Order 7400.11A at NARA, call 202-741-6030, or go to http://www.archives.gov/federal_register/code_of_federal-regulations/ibr_locations.html.

FAA Order 7400.11A, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D airspace and Class E surface area airspace at Sugar Land Regional Airport, Houston Sugar Land, TX; and modifies Class E airspace extending upward from 700 feet above the surface at Kingsville Kleberg County Airport, Alice, TX; Bay City Municipal Airport, Bay City, TX; Brenham Municipal Airport, Brenham, TX; Burnet Municipal Airport-Kate Craddock Field, Burnet, TX; Brooks County Airport, Falfurrias, TX; Possum Kingdom Airport, Graford, TX; and Hamilton Municipal Airport, Hamilton, TX.

History

On August 11, 2016, the FAA published in the Federal Register a notice of proposed rulemaking (NPRM), (81 FR 53091) Docket No. FAA-2016-8503, to modify Class D airspace and Class E surface area airspace at Sugar Land Regional Airport, Houston Sugar Land, TX; and modify Class E airspace extending upward from 700 feet above the surface at Kingsville Kleberg County Airport, Alice, TX; Bay City Municipal Airport, Bay City, TX; Brenham Municipal Airport, Brenham, TX; Burnet Municipal Airport-Kate Craddock Field, Burnet, TX; Brooks County Airport, Falfurrias, TX; Possum Kingdom Airport, Graford, TX; and Hamilton Municipal Airport, Hamilton, TX; and remove Class E at Horseshoe Bay Resort Airport, Austin, TX.

Interested parties were invited to participate in this rulemaking effort by submitting written comments on the proposal to the FAA. One (1) comment was received from an individual from Round Mountain, TX. In synopsis, the individual stated that: RNAV SIAPs ¹ were published in the Garmin 430W or available by printed photo copies; that Class E airspace to 700 AGL is critical to maintain cloud clearance at Horseshoe Bay Resort Airport; that if the SIAPs are removed, public procedures should be established; that many airmen have obtained published SIAPs through unapproved sources and do not possess a letter of authorization to utilize them; and that Horseshoe Bay Resort Airport need that protected airspace and approached to maintain a higher level of public safety and operational consistency.

¹ Special instrument procedures are not published in accordance with 14 CFR part 97 and require specific FAA approval for use. FAA Order 8260.60, Chpt.2, 2-1-1.

Subsequent to the publication, the FAA found that special instrument approach procedures exist at Horseshoe Bay Resort Airport requiring the Class E airspace area extending upward from 700 feet above the surface that currently is in place for the safety and management of IFR operations. Thus, the proposed removal of Class E airspace at Horseshoe Bay Resort Airport, Austin, TX, has been withdrawn from this action. The individual's remaining comments are outside the scope of this action.

Class D and E airspace designations are published in paragraph 5000, 6002, and 6005, respectively, of FAA Order 7400.11A, dated August 3, 2016, and effective September 15, 2016, which is incorporated by reference in 14 CFR 71.1. The Class D and E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 modifies:

Class D airspace from the surface to and including 2,600 feet MSL and Class E surface area airspace within a 5.8-mile radius (increased from a 4.2-mile radius) of Sugar Land Regional Airport, Houston Sugar Land, TX, and updates the name of the airport (formerly Sugar Land Municipal/Hull Field) to coincide with the FAA's aeronautical database;

Class E airspace extending upward from 700 feet above the surface within a 6.6-mile radius (increased from a 6.5-mile radius) of Kingsville, Kleberg County Airport, Alice, TX, with an extension northwest of the airport from the 6.6-mile radius to 10.3 miles;

Within a 6.5-mile radius (reduced from a 7-mile radius) of Bay City Municipal Airport, Bay City, TX, and updates the geographic coordinates of the airport to coincide with the FAA's aeronautical database;

Within a 6.5-mile radius (reduced from a 7.2-mile radius) of Brenham Municipal Airport, Brenham TX, and updates the geographic coordinates of the airport to coincide with the FAA's aeronautical database;

Within a 6.6-mile radius (reduced from a 6.7-mile radius) of the Burnet Municipal Airport-Kate Craddock Field, Burnet, TX, and removes the extensions to the north and south of the airport;

Within a 6.6-mile radius (reduced from a 6.7-mile radius) of Brooks County Airport, Falfurrias, TX, removes the extension to the south of the airport, updates the geographic coordinates of the airport to coincide with the FAA's aeronautical database, and removes the decommissioned Bay City NDB from the legal description;

Within a 7.0-mile radius (increased from a 6.3-mile radius) of Possum Kingdom Airport, Graford, TX, with extensions to the northeast of the airport from the 7.0-mile radius to 10.9 miles, and to the southwest of the airport from the 7.0-mile radius to 10.9 miles;

And within a 6.5-mile radius (increased from a 6.4-mile radius) of Hamilton Municipal Airport, Hamilton, TX, with extensions to the north of the airport from the 6.5-mile radius to 9.4 miles, and to the south of the airport from the 6.5-mile radius to 10.3 miles.

Airspace reconfiguration is necessary due to the decommissioning of NDBs, cancellation of NDB approaches, and implementation of RNAV procedures at these airports and for the safety and management of standard instrument approach procedures for IFR operations at these airports.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air)

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 5000 Class D Airspace.

* * * * *

ASW TX D Houston Sugar Land, TX [Amended]

Sugar Land, Sugar Land Regional Airport, TX

(Lat. 29°37′20″ N., long. 95°39′24″ W.)

That airspace extending upward from the surface to and including 2,600 feet MSL within a 5.8-mile radius of Sugar Land Regional Airport. This Class D airspace area is effective during the specific dates and times established in advance by a Notice to Airmen. The effective date and time will thereafter be continuously published in the Chart Supplement (previously called Airport/Facility Directory).

* * * * *

Paragraph 6002 Class E Airspace Designated as Surface Areas.

* * * * *

ASW TX E2 Houston Sugar Land, TX [Amended]

Sugar Land, Sugar Land Regional Airport, TX

(Lat. 29°37′20″ N., long. 95°39′24″ W.)

Within a 5.8-mile radius of Sugar Land Regional Airport. This Class E airspace is effective during the specific dates and times established in advance by a Notice to Airmen. The effective date and time will thereafter be continuously published in the Chart Supplement (previously called Airport/Facility Directory).

* * * * *

Paragraph 6005 Class E Airspace Areas Extending Upward From 700 Feet or More Above the Surface of the Earth.

* * * * *

ASW TX E5 Alice, TX [Amended]

Alice International Airport, TX

(Lat. 27°44′27″ N., long. 98°01′37″ W.)

Orange Grove NALF, TX

(Lat. 27°53′49″ N., long. 98°02′37″ W.)

Navy Orange Grove TACAN

(Lat. 27°53′43″ N., long. 98°02′33″ W.)

Kingsville, Kleberg County Airport, TX

(Lat. 27°33′03″ N., long. 98°01′51″ W.)

That airspace extending upward from 700 feet above the surface within a 7.5-mile radius of Alice International Airport, and within 2 miles each side of the 135° bearing from Alice International Airport extending from the 7.5-mile radius to 9.8 miles southeast of the airport, and within a 7.2-mile radius of the Orange Grove NALF, and within 1.6 miles each side of the 129° radial of the Navy Orange Grove TACAN extending from the 7.2-mile radius of the Orange Grove NALF to 11 miles southeast of the Orange Grove NALF, and within 1.5 miles each side of the 320° radial of the Navy Orange Grove TACAN extending from the 7.2-mile radius of the Orange Grove NALF to 9.7 miles northwest of the Orange Grove NALF, and within a 6.6-mile radius of Kleberg County Airport, and within 4.0 miles each side of the 320° bearing from the Kleberg County Airport from the 6.6-mile radius to 10.3 miles northwest of the airport, excluding that airspace within the Corpus Christi, TX, Class E airspace area.

* * * * *

ASW TX E5 Bay City, TX [Amended]

Bay City Municipal Airport, TX

(Lat. 28°58′24″ N., long. 95°51′48″ W.)

That airspace extending upward from 700 feet above the surface within a 6.5-mile radius of Bay City Municipal Airport.

* * * * *

ASW TX E5 Brenham, TX [Amended]

Brenham Municipal Airport, TX

(Lat. 30°13′11″ N., long. 96°22′28″ W.)

That airspace extending upward from 700 feet above the surface within a 6.5-mile radius of Brenham Municipal Airport.

* * * * *

ASW TX E5 Burnet, TX [Amended]

Burnet Municipal Airport-Kate Craddock Field, TX

(Lat. 30°44′20″ N., long. 98°14′19″ W.)

That airspace extending upward from 700 feet above the surface within a 6.6-mile radius of Burnet Municipal Airport-Kate Craddock Field.

* * * * *

ASW TX E5 Falfurrias, TX [Amended]

Brooks County Airport, TX

(Lat. 27°12′22″ N., long. 98°07′16″ W.)

That airspace extending upward from 700 feet above the surface within a 6.6-mile radius of Brooks County Airport.

* * * * *

ASW TX E5 Graford, TX [Amended]

Possum Kingdom Airport, TX

(Lat. 32°55′24″ N., long. 98°26′13″ W.)

That airspace extending upward from 700 feet above the surface within a 7.0-mile radius of Possum Kingdom Airport and within 4 miles each side of the 031° bearing from the airport extending from the 7.0-mile radius to 10.9 miles northeast of the airport, and within 4 miles each side of the 210° bearing from the airport extending from the 7.0-mile radius to 10.9 miles southwest of the airport.

* * * * *

ASW TX E5 Hamilton, TX [Amended]

Hamilton Municipal Airport, TX

(Lat. 31°39′57″ N., long. 98°08′55″ W.)

That airspace extending upward from 700 feet above the surface within a 6.5-mile radius of Hamilton Municipal Airport, and within 2 miles each side of the 009° bearing from the airport extending from the 6.5-mile radius to 9.4 miles north of the airport, and within 2 miles each side of the 189° bearing from the airport extending from the 6.5-mile radius to 10.3 miles south of the airport.

Issued in Fort Worth, Texas, on February 8, 2017.
Walter Tweedy,
Acting Manager, Operations Support Group, ATO Central Service Center.

[FR Doc. 2017-03835 Filed 2-27-17; 8:45 am]

BILLING CODE 4910-13-P